CORPORATION FOR NATIONAL AND COMMUNITY SERVICE

Proposed Information Collection; Comment Request

AGENCY: Corporation for National and Community Service.

ACTION: Notice.

SUMMARY: The Corporation for National and Community Service (CNCS), as part of its continuing effort to reduce paperwork and respondent burden, conducts a pre-clearance consultation program to provide the general public and federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of the collection requirement on respondents can be properly assessed.

Currently, CNCS is soliciting comments concerning the proposed renewal of its Project Progress Report (OMB Control Number 3045-0038) which will expire on September 30, 2015.

This revision reflects CNCS's intent to modify the application for inclusion of a new section to capture the new performance measures as approved by OMB which will capture appropriate data for CNCS's required performance measurement reporting.

Copies of the information collection request can be obtained by contacting the office listed in the Addresses section of this Notice.

DATES: Written comments must be submitted to the individual and office listed in the ADDRESSES section by April 28, 2014.

ADDRESSES: You may submit comments, identified by the title of the information collection activity, by any of the following methods:

(1) By mail sent to: Corporation for National and Community Service, Attn. Robert Cox, Program Specialist, 1201 New York Avenue NW., Washington, DC 20525.

(2) By hand delivery or by courier to CNCS's reception desk on the 10th floor at the mail address given in paragraph (1) above, between 9 a.m. and 4 p.m. Monday through Friday except Federal holidays.

(3) By fax to: 202-606-3475, Attn. Robert Cox, Program Specialist.

(4) Electronically through CNCS's email address system: vista@americorps.gov.

(5) Electronically through www.regulations.gov. Individuals who use a telecommunications device for the deaf (TTY-TDD) may call 202-606-3472 between 8:30 a.m. and 5:00 p.m. Eastern Time, Monday through Friday.

FOR FURTHER INFORMATION CONTACT: Robert Cox (202-606-6851; or by email at vista@americorps.gov.)

SUPPLEMENTARY INFORMATION: CNCS is particularly interested in comments that:

• Evaluate whether the proposed collection of information is necessary for the proper performance of the functions of CNCS, including whether the information will have practical utility;

• Evaluate the accuracy of the agency's estimate of the burden of the proposed collection of information, including the validity of the methodology and assumptions used;

• Enhance the quality, utility and clarity of the information to be collected; and,

• Minimize the burden of the collection of information on those who respond, including through the use of appropriate automated, electronic, mechanical, or other technological collection techniques or other forms of information technology (e.g., permitting electronic submissions of responses).

Background

The Project Progress Report is designed to assure that current AmeriCorps VISTA sponsors provide the information needed to determine their progress, challenges, successes and technical assistance needs as a sponsor.

Current Action:

CNCS seeks to revise the current form used by AmeriCorps VISTA sponsors to report on the use of AmeriCorps VISTA resources. The average time of response is 15 hours.

Type of Review: Revision.

Instrument: Project Progress Report.

Total Respondents: 900.

Frequency: Four times a year for year each sponsor; twice per year thereafter unless performance or nature of the project requires more frequent reporting and review.

Average Time per Response: 15 hours.

Estimated Total Burden Hours: 36,000 hours.

Total Burden Cost (capital/startup): None.

Total Burden Cost (operating/maintenance): None.

Comments submitted in response to this notice will be summarized and/or included in the request for Office of Management and Budget approval of the information collection request; they will also become a matter of public record.

Dated: February 20, 2014.
Mary Strasser,
Director, AmeriCorps VISTA.

[FR Doc. 2014-04148 Filed 2-24-14; 8:45 am]

BILLING CODE 6050-28-P